TENNESSEE VALLEY AUTHORITY

Environmental Impact Statement for Muscle Shoals Reservation Redevelopment

AGENCY: Tennessee Valley Authority (TVA).

ACTION: Notice of intent.

SUMMARY: The Tennessee Valley Authority (TVA) will prepare an environmental impact statement (EIS) addressing the impacts of the disposal and alternative future uses of approximately 1,380 contiguous acres of land on its Muscle Shoals Reservation (MSR) in Colbert County, Alabama. Public comment is invited concerning both the scope of the EIS and environmental issues that should be addressed in the EIS.

DATES: Comments on the scope and environmental issues for the EIS should be received no later than Wednesday, August 5, 2009, to ensure consideration.

ADDRESSES: Written comments should be sent to Stanford E. Davis, Senior NEPA Specialist, NEPA Resources, Environmental Services and Programs, 400 West Summit Hill Drive, Knoxville, Tennessee 37902. Comments may also be submitted via TVA's Web site at http://www.tva.gov/environment/reports/comments.htm or submitted by fax at 865/632-3451.

SUPPLEMENTARY INFORMATION:

Background

This notice is provided in accordance with the Council on Environmental Quality's regulations (40 CFR parts 1500 to 1508), TVA's procedures implementing the National Environmental Policy Act (NEPA), and Section 106 of the National Historic Preservation Act (NHPA) and its implementing regulations (36 CFR part 800).

The MSR is geographically located in the center of the cities of Florence, Muscle Shoals, Sheffield, and Tuscumbia. The Federal property that is the subject of this EIS includes the area bounded by Reservation Road on the north, Hatch Boulevard on the west, Second Street on the south, and Wilson Dam Road on the east. Also included is an access corridor to the Tennessee River in the vicinity of the slag area, the Western Area Radiological Laboratory (WARL) property, and the Multipurpose Building (MPB) Complex, which includes the Multipurpose Building, the Office Service Warehouse Annex, and the Office Service Warehouse, all on the north side of Reservation Road. A small amount of land surrounding the International Fertilizer Development Center and the site of the Muscle Shoals TVA Employees Credit Union would not likely be included in the proposal. Except for the slag area, WARL, and MPB Complex, the TVA-managed land north of Reservation Road is not part of this land disposal action. It will continue to be used for public access and conservation with the possibility of enhancements to recreation related activities that are presently open to the public.

The former United States Nitrate Plant No. 2 was built for the War Department during World War I on property that is now part of the MSR. Following the war, this plant was idle until the creation of TVA in 1933, when it became the nucleus of TVA's National Fertilizer Development Center (NFDC). At its peak around 1980, the NFDC occupied about 475 acres of MSR land. Roughly 2,800 TVA employees worked in Muscle Shoals at that time, while approximately 600 to 700 people work there today. Over the years, NFDC developed many of the fertilizers and fertilizer production processes used in the world today. Fertilizer development and production operations began scaling back around 1990 and by 1998 had largely ceased. TVA began demolishing some unused buildings and other structures in 1983, and since then, 34 structures (36 percent of the structures present in 1983) have been removed. The MSR presently provides office space, laboratories, and support facilities for staff primarily involved in environmental services, research and technology; central support and repair; environmental stewardship; and power system operations and maintenance.

The Muscle Shoals Historic District (MSHD) includes historic properties associated with five prehistoric and historic contexts, which include a prehistoric mortuary complex, the Civil War, the Wilson Dam, the New Deal, and TVA's development of Muscle Shoals after the New Deal. Because a large number of buildings and structures, as a whole, demonstrate significant prehistoric and historic events associated with the area, the MSHD was recognized as eligible for listing on the National Register of Historic Places (NRHP) by the Alabama Historical Commission in October 2007. The boundaries of the MSHD include the 1,380 acres of the MSR subject to this EIS.

Part of the MSR was contaminated by historic chemical production and disposal practices. This part of the MSR contains a number of solid waste management units (SWMUs), which have been cleaned, i.e., remediated, to industrial standards. Most of these SWMUs are part of the 1,380 acres proposed for disposal and may require additional remediation to allow uses other than industrial. Five SWMUs on the MSR property are subject to continuing monitoring requirements and likely will be retained by TVA.

The redevelopment of unused parts of the MSR is consistent with TVA's economic development mission. Due to its central location, flat terrain, highway access, and availability of utilities, the surrounding cities and counties have expressed interest in the redevelopment of the MSR for many years. In response to these requests, TVA has previously made a few areas on the periphery of the MSR available for commercial use. The currently proposed actions would make a much larger area available for a variety of redevelopment activities.

Several surrounding cities and counties have been coordinating in the creation of a cooperative district under Alabama law. The district would then be eligible to be involved in the development of the MSR property proposed for disposal, perhaps through the creation of a comprehensive master development plan and/or the acquisition of the property.

Potential Alternatives

The EIS will analyze a range of alternatives for redeveloping the MSR site. Under Alternative A, No Action, TVA would continue to use the MSR for program purposes and regional economic development, as guided by the 1996 Muscle Shoals/Wilson Dam Reservation Land Use Plan. Under this plan, TVA identified MSR and Wilson Dam Reservation property for various potential governmental and nongovernmental uses including economic development opportunity. The remainder of MSR, largely north of Reservation Road, was allocated in the 1996 land plan for TVA program purposes, including public recreation and conservation.

Under the action alternatives, TVA proposes to dispose of this MSR land without restrictions on the future use of the property, except as described below. The EIS will evaluate four action alternatives associated with different potential future land uses. Some elements common to all action alternatives include:

1. Requirements to protect or mitigate impacts to historic properties and endangered and threatened species; mitigate other potential environmental impacts; protect TVA's statutory, programmatic, and other interests; and ensure continued ongoing operational requirements such as monitoring SWMUs.

2. The potential disposal of an access corridor to the Tennessee River, WARL, and MPB Complex north of Reservation Road; the corridor, in the vicinity of the slag pile, could be used for utilities or other supporting infrastructure development.

3. The encouragement of the adaptive reuse of existing buildings, including historic buildings.

4. The likely retention by TVA of five SWMUs that have long-term monitoring requirements and restrictions on use.

The action alternatives presently under consideration by TVA include the following: Alternative B—Industrial Use; Alternative C—Commercial/Retail Use; Alternative D—Residential Use; and Alternative E—Mixed Use, a combination of industrial, commercial/retail, and residential uses.

TVA will use the results of the public scoping process and additional technical scoping studies to refine the range of alternatives that will be evaluated in detail in the EIS.

Proposed Issues To Be Addressed

The EIS will contain descriptions of the existing environmental and socioeconomic resources within the area that would be affected by the range of proposed actions. TVA's evaluation of potential impacts to these resources will include, but not necessarily be limited to, historic and archaeological resources, socioeconomic resources, solid and hazardous wastes including existing SWMUs, floodplains management, land use, transportation, air quality, terrestrial and aquatic ecology including threatened and endangered species, wetlands, surface water and groundwater quality, and environmental justice.

Scoping Process

Scoping is an integral component of the NEPA process for soliciting public input to ensure that issues are identified early and properly studied. The range of alternatives and the issues to be addressed in the draft EIS will be determined, in part, from comments received during this scoping process. The preliminary identification of a reasonable range of alternatives and environmental issues in this notice is not meant to be exhaustive or final.

The participation of affected Federal, State, and local agencies and Indian tribes, as well as other interested persons, is invited. Pursuant to the regulations of the Advisory Council on Historic Preservation implementing Section 106 of the NHPA, TVA also solicits comments on the potential of the proposed action to affect historic properties. As indicated above, TVA recognizes the presence of significant historic resources on the property and will consult with the Alabama Historical Commission regarding appropriate treatment in the event these resources are transferred to nonfederal ownership. This notice also provides an opportunity under Executive Orders 11990 and 11988 for early public review of the potential for TVA's action to affect wetlands and floodplains, respectively.

Comments on the scope of this EIS should be submitted no later than the date given under the DATES section of this notice. Any comments received, including names and addresses, will become part of the administrative record and will be available for public inspection.

TVA will hold a public scoping meeting on Tuesday, July 14, 2009. The open-house style meeting will be held from 4 p.m. to 7 p.m. Central Daylight Time at Muscle Shoals High School, 1900 Avalon Avenue, Muscle Shoals, Alabama 35661.

Upon consideration of the scoping comments, TVA will develop alternatives and identify environmental issues to be addressed in the EIS. These will be described in a report that will be available to the public. Following analysis of the environmental consequences of each alternative, TVA will prepare a draft EIS for public review and comment. Notice of availability of the draft EIS will be published by the Environmental Protection Agency in the Federal Register. TVA will solicit comments on the draft EIS in writing and at a public meeting to be held in the project area. TVA expects to release the draft EIS in the spring of 2010 and the final EIS in late summer of 2010.

Dated: June 11, 2009.
Anda A. Ray,
Senior Vice President and Environmental Executive, Office of Environment and Research.

[FR Doc. E9-14414 Filed 6-17-09; 8:45 am]

BILLING CODE 8120-08-P